DEPARTMENT OF HOMELAND SECURITY

U.S. Citizenship and Immigration Services

Continuation of Employment Authorization and Automatic Extension of Existing Employment Authorization Documents for Eligible Liberians Before Period of Deferred Enforced Departure Ends

AGENCY: U.S. Citizenship and Immigration Services (USCIS), Department of Homeland Security (DHS).

ACTION: Notice.

SUMMARY: On March 28, 2019, President Trump issued a memorandum to the Secretary of Homeland Security (Secretary), Kirstjen M. Nielsen, directing her to extend for certain, eligible Liberians, the 12-month deferred enforced departure (DED) wind-down period and to provide for continued work authorization through March 30, 2020, after which date the DED wind-down period will end. During the extension of the 12-month wind-down period of DED, affected individuals may remain in the United States. This Notice automatically extends DED-related employment authorization documents (EADs) that have a printed expiration date of March 31, 2019, for an additional 180 days through September 27, 2019, for eligible Liberians. This Notice also provides instructions for eligible Liberians on how to apply for an EAD for the full 12-month period of employment authorization, through March 30, 2020.

USCIS will issue new EADs with a March 30, 2020, expiration date to eligible Liberians who are covered by DED under the Presidential Memorandum of March 28, 2019, and who apply for a new EAD. DHS recognizes that current DED-eligible Liberians with EADs that expire on March 31, 2019, will not receive new EADs before such EADs expire. Accordingly, through this Notice, DHS also automatically extends the validity of DED-related EADs for 180 days, through September 27, 2019, and explains how Liberians covered under DED and their employers may determine which EADs are automatically extended and how this impacts the Employment Eligibility Verification (Form I-9), E-Verify, and SAVE processes.

DATES: The 12-month wind-down period for DED Liberia is extended through March 30, 2020. The 180-day automatic extension of DED-related EADs, as specified in this Notice, expires after September 27, 2019.

FOR FURTHER INFORMATION CONTACT:

• For further information on DED, including additional information on eligibility, please visit the USCIS DED web page at http://www.uscis.gov/humanitarian/temporary-protected-status/deferred-enforced-departure. You can find specific information about DED for Liberians by selecting “DED Granted Country: Liberia” from the menu on the left of the DED web page.

• You may also contact Samantha Deshommes, Chief, Regulatory Coordination Division, Office of Policy and Strategy, U.S. Citizenship and Immigration Services, Department of Homeland Security, by mail at 20 Massachusetts Avenue NW, Washington, DC 20529-2060; or by phone at 800-375-5283.

• If you have additional questions about DED, please visit http://uscis.gov/tools. Our online virtual assistant, Emma, can answer many of your questions and point you to additional information on our website. If you are unable to find your answers there, you may also call the USCIS Contact Center at 1-800-375-5283 (TTY 1-800-767-1833).

• Applicants seeking information about the status of their individual cases may check Case Status Online, available on the USCIS website at http://www.uscis.gov, or call the USCIS Contact Center at 1-800-375-5283 (TTY 800-767-1833).

• Further information will also be available at local USCIS offices upon publication of this Notice.

SUPPLEMENTARY INFORMATION:

Table of Abbreviations

DED—Deferred Enforced Departure

DHS—Department of Homeland Security

EAD—Employment Authorization Document

FNC—Final Nonconfirmation

IER—U.S. Department of Justice Civil Rights Division, Immigrant and Employee Rights Section

SAVE—USCIS Systematic Alien Verification for Entitlements Program

Secretary—Secretary of Homeland Security

TNC—Tentative Nonconfirmation

TPS—Temporary Protected Status

TTY—Text Telephone

USCIS—U.S. Citizenship and Immigration Services

Presidential Memorandum Extending DED for Eligible Liberians

Pursuant to the President's constitutional authority to conduct the foreign relations of the United States, President Trump has concluded that foreign policy considerations warrant a further 12-month extension of the previously-announced 12-month wind-down period of DED for Liberians, through March 30, 2020.¹ The President concluded that the 12-month extension of the wind-down period is appropriate to provide Liberia's government with additional time to reintegrate its returning citizens. The President further authorized the 12-month extension of the DED wind-down period to preserve the status quo while Congress considers legislation to provide relief for Liberians covered by DED. The President accordingly directed that current, eligible Liberian DED beneficiaries who remain eligible for DED be provided with a 12-month extension of the wind-down period for DED. See Presidential Memorandum on Extension of Deferred Enforced Departure for Liberians (March 28, 2019), available at https://www.whitehouse.gov/presidential-actions/memorandum-extension-deferred-enforced-departure-liberians/. Note that DED only applies to individuals who have continuously resided in the United States since October 1, 2002, and who held Temporary Protected Status (TPS) on September 30, 2007, the date that a former TPS designation of Liberia terminated. The President also directed the Secretary to implement the necessary steps to authorize continued employment authorization for eligible Liberians for 12 months, through March 30, 2020.

¹ See Filing Procedures for Employment Authorization and Automatic Extension of Existing Employment Authorization Documents for Eligible Liberians Before Period of Deferred Enforced Departure Ends, 83 FR 13767 (March 30, 2018).

Employment Authorization and Filing Requirements

How will I know if I am eligible for employment authorization under the Presidential Memorandum that extended for an additional 12 months the DED wind-down period for eligible Liberians?

The procedures for employment authorization in this Notice apply only to individuals who are Liberian nationals (and persons without nationality who last habitually resided in Liberia) who:

• Have continuously resided in the United States since October 1, 2002; and

• Are currently eligible Liberian DED beneficiaries.

The above eligibility criteria are described in the March 28, 2019, Presidential Memorandum extending the wind-down period for DED for Liberians.² Only individuals who held TPS on September 30, 2007, the date that a former TPS designation of Liberia terminated, are eligible for DED under this extension, provided they have continued to meet all other eligibility criteria established by the President. This DED extension does not include any individual:

² See Presidential Memorandum for the Secretary of State and the Secretary of Homeland Security on Extension of Deferred Enforced Departure for Liberians (March 28, 2019), available at https://www.whitehouse.gov/presidential-actions/memorandum-extension-deferred-enforced-departure-liberians/.

• Who would be ineligible for TPS for the reasons set forth in section 244(c)(2)(B) of the Immigration and Nationality Act, 8 U.S.C. 1254a(c)(2)(B);

• Whose removal the Secretary determines is in the interest of the United States;

• Whose presence or activities in the United States the Secretary of State has reasonable grounds to believe would have potentially serious adverse foreign policy consequences for the United States;

• Who has voluntarily returned to Liberia or his or her country of last habitual residence outside the United States;

• Who was deported, excluded, or removed prior to March 28, 2019; or

• Who is subject to extradition.

What will I need to file if I am covered by DED and would like to have evidence of employment authorization?

If you are covered under DED for Liberia, and would like to maintain evidence of your employment authorization throughout the extension of the 12-month wind-down period of DED, you must apply for an EAD by filing an Application for Employment Authorization (Form I-765). USCIS will begin accepting these applications on April 3, 2019. Although this Notice automatically extends DED-related EADs that have a printed expiration date of March 31, 2019, for an additional 180 days through September 27, 2019, if you would like evidence of your continued employment authorization through March 30, 2020, you must file an Application for Employment Authorization (Form I-765) as soon as possible to avoid gaps in evidence of work authorization. Please carefully follow the Application for Employment Authorization (Form I-765) instructions when completing the application for an EAD. When filing the Application for Employment Authorization (Form I-765), you must:

• Indicate that you are eligible for DED by entering “(a)(11)” in response to Question 16 on the Application for Employment Authorization (Form I-765);

• Include a copy of your last Form I-797, Notice of Action (Approval Notice) showing that you were approved for TPS as of September 30, 2007, if such copy is available, and/or a copy of your EAD that has an expiration date of March 31, 2019, and states “A-11” under “Category”; and

• Submit the fee for the Application for Employment Authorization (Form I-765).

The regulations require individuals covered under DED who request an EAD to pay the fee prescribed in 8 CFR 103.7 for the Application for Employment Authorization (Form I-765). See also 8 CFR 274a.12(a)(11) (employment authorization for DED-covered aliens); and 8 CFR 274a.13(a) (requirement to file EAD application if EAD desired). If you are unable to pay the fee, you may apply for an application fee waiver by completing a Request for Fee Waiver (Form I-912) or submitting a personal letter requesting a fee waiver, and providing satisfactory supporting documentation.

Note: If you have an Application for Employment Authorization (Form I-765) that was still pending as of March 31, 2019, then you should not file the application again. If your pending EAD application is approved, you will receive an EAD valid through March 30, 2020.

How will I know if USCIS will need to obtain biometrics?

If biometrics are required to produce the secure EAD, USCIS will notify you and schedule you for an appointment at a USCIS Application Support Center.

Where do I submit my completed Application for Employment Authorization (Form I-765)?

Mail your completed Application for Employment Authorization (Form I-765) and supporting documentation to the proper address in Table 1.

Table 1—Mailing Addresses
If you would like to send your application by: | Then, mail your application to:
U.S. Postal Service | USCIS, Attn: DED Liberia, P.O. Box 6943, Chicago, IL 60680-6943.
A non-U.S. Postal Service courier | USCIS, Attn: DED Liberia, 131 S Dearborn, 3rd Floor, Chicago, IL 60603-5517.

Can I file my Application for Employment Authorization (FormI-765) electronically?

No. Electronic filing is not available when filing Application for Employment Authorization (Form I-765) based on DED.

May I request an interim EAD at my local USCIS office?

No. USCIS will not issue interim EADs to individuals eligible for DED under the Presidential Memorandum at local offices.

Am I eligible to receive an automatic 180-day extension of my current EAD through September 27, 2019?

You are eligible for an automatic 180-day extension of your EAD if you are a national of Liberia (or a person having no nationality who last habitually resided in Liberia), you are currently covered by Liberian DED, and you are within the class of persons approved for DED by the President.

This automatic extension covers EADs (Forms I-766) bearing an expiration date of March 31, 2019. These EADs must also bear the notation “A-11” on the face of the card under “Category.”

When hired, what documentation may I show to my employer as evidence of employment authorization and identity when completing Employment Eligibility Verification (Form I-9)?

You can find the Lists of Acceptable Documents on the third page of Form I-9 as well as the “Acceptable Documents” web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of your identity and employment authorization) or one document from List B (which provides evidence of your identity) together with one document from List C (which provides evidence of employment authorization), or you may present an acceptable receipt for List A, List B, or List C documents as described in the Form I-9 Instructions. Employers may not reject a document based on a future expiration date. An EAD is considered an acceptable document under List A.

You can find additional information about Form I-9 on the I-9 Central web page at http://www.uscis.gov/I-9Central.

If your EAD has an expiration date of March 31, 2019, and states “A-11” under “Category,” it has been extended automatically for 180 days consistent with the President's directive and the issuance of this Federal Register Notice. You may choose to present your EAD to your employer as proof of identity and employment authorization for Form I-9 through September 27, 2019. (See the subsection titled “How do my employer and I complete Employment Eligibility Verification (Form I-9) using an automatically extended EAD for a new job?” for further information.) To minimize confusion over this extension at the time of hire, you may also show your employer a copy of this Federal Register Notice confirming the extension of your employment authorization through September 27, 2019.

What documentation may I show my employer if I am already employed but my current DED-related EAD is set to expire?

Even though your EAD has been automatically extended for 180 days, your employer is required by law to ask you about your continued employment authorization, and you will need to present your employer with evidence that you are still authorized to work. Once presented, you may correct your employment authorization expiration date in Section 1 and your employer should correct the EAD expiration date in Section 2 of Form I-9. (See the subsection titled “What corrections should my current employer and I make to Employment Eligibility Verification (Form I-9) if my EAD has been automatically extended?” for further information.) You may show this Federal Register Notice to your employer to explain what to do for Form I-9 and to show that your EAD has been automatically extended through September 27, 2019. Your employer may need to re-inspect your automatically extended EAD to check the expiration date and Category code if your employer did not keep a copy of this EAD when you initially presented it.

The last day of the automatic EAD extension for eligible Liberians is September 27, 2019. Before you start work on September 28, 2019, your employer is required by law to reverify your employment authorization in Section 3 of Form I-9. At that time, you must present any document from List A or any document from List C on Form I-9 Lists of Acceptable Documents, or an acceptable List A or List C receipt described in the Form I-9 Instructions to reverify your employment authorization. If your original Form I-9 was a previous verison, your employer must complete Section 3 of the current version of Form I-9, and attach it to your previously completed Form I-9. Your employer can check the I-9 Central web page at http://www.uscis.gov/I-9Central for the most current version of Form I-9.

Note that your employer may not specify which List A or List C document you must present, and cannot reject an acceptable receipt.

Can my employer require that I produce any other documentation to prove my status, such as proof of my Liberian citizenship?

No. When completing Form I-9, including reverifying employment authorization, employers must accept any documentation that appears on the Form I-9 List of Acceptable Documents that reasonably appears to be genuine and that relates to you, or an acceptable List A, List B, or List C receipt. Employers may not request additional documentation that does not appear on the Form I-9 Lists of Acceptable Documents. Therefore, employers may not request proof of Liberian citizenship when completing Form I-9 for new hires, making corrections, or reverifying the employment authorization of current employees. If presented with EADs that have been automatically extended, employers should accept such documents as valid List A documents so long as the EADs reasonably appear to be genuine and to relate to the employee. Refer to the Note to Employees section of this Federal Register Notice for important information about your rights if your employer rejects lawful documentation, requires additional documentation, or otherwise discriminates against you based on your citizenship or immigration status, or your national origin.

What happens after September 27, 2019, for purposes of employment authorization?

After September 27, 2019, employers may no longer accept the EADs that were issued under the previous DED extension of Liberia that this Federal Register Notice automatically extended. Before that time, however, USCIS will endeavor to issue new EADs to eligible individuals covered by DED who request them. These new EADs will have an expiration date of March 30, 2020, and can be presented to your employer for completion of Employment Eligibility Verification (Form I-9). Alternatively, you may choose to present any other legally acceptable document or combination of documents listed on the Lists of Acceptable Documents for Employment Eligibility Verification (Form I-9).

How do my employer and I complete Employment Eligibility Verification (Form I-9) using an automatically extended EAD for a new job?

When using an automatically extended EAD to complete Form I-9 for a new job on or before September 27, 2019, you and your employer should do the following:

1. For Section 1, you should:

a. Check “An alien authorized to work until” and enter September 27, 2019, as the “expiration date”; and

b. Enter your Alien Registration Number/USCIS Number where indicated (your EAD or other document from DHS will have your USCIS number or A-Number printed on it; the USCIS Number is the same as your A-Number without the A prefix).

2. For Section 2, your employer should:

a. Determine if the EAD is automatically extended 180 days by ensuring it is in category A-11 and has a March 31, 2019, expiration date;

If it has been automatically extended, the employer should:

b. Write in the document title;

c. Enter the issuing authority;

d. Provide the document number; and

e. Write September 27, 2019, as the expiration date.

Before the start of work on September 28, 2019, employers are required by law to reverify the employee's employment authorization in Section 3 of Form I-9. If your original Form I-9 was a previous version, your employer must complete Section 3 of the current version of Form I-9 and attach it to your previously completed Form I-9. Your employer can check the I-9 Central web page at http://www.uscis.gov/I-9Central for the most current version of Form I-9.

What corrections should my current employer and I make to Employment Eligibility Verification (Form I-9) if my EAD has been automatically extended?

If you are an existing employee who presented a DED-related EAD that was valid when you first started your job, but that EAD has now been automatically extended, your employer may need to reinspect your current EAD if your employer does not have a copy of the EAD on file. You may, and your employer should, correct your previously completed Form I-9 as follows:

1. For Section 1, you may:

a. Draw a line through the expiration date in Section 1;

b. Write September 27, 2019, above the previous date;

c. Write “DED Ext.” in the margin of Section 1; and

d. Initial and date the correction in the margin of Section 1.

2. For Section 2, employers should:

a. Determine if the EAD is automatically extended for 180 days by ensuring it shows category A-11 and has an expiration date of March 31, 2019.

If it has been automatically extended, employers should:

b. Draw a line through the expiration date written in Section 2;

c. Write September 27, 2019, above the previous date;

d. Write “DED Ext.” in the margin or Additional Information field in Section 2; and

e. Initial and date the correction in the margin or Additional Information field in Section 2.

Note: This is not considered a reverification. Employers do not need to complete Section 3 until either this Notice's automatic extension of EADs has ended or the employee presents a new document to show continued employment authorization, whichever is sooner. By September 28, 2019, when the employee's automatically extended EAD has expired, employers are required by law to reverify the employee's employment authorization in Section 3. If your original Form I-9 was a previous version, your employer must complete Section 3 of the current version of Form I-9 and attach it to your previously completed Form I-9. Your employer can check the I-9 Central web page at http://www.uscis.gov/I-9Central for the most current version of Form I-9.

If I am an employer enrolled in E-Verify, how do I verify a new employee whose EAD has been automatically extended?

Employers may create a case in E-Verify for these employees by providing the employee's Alien Registration number (A-Number) or USCIS number from the document number field on Form I-9 in the document number field in E-Verify.

If I am an employer enrolled in E-Verify, what do I do when I receive a “Work Authorization Documents Expiration” alert for an automatically extended EAD?

If you have employees who provided a DED-related EAD with an expiration date that has been automatically extended by this Notice, you should dismiss the “Work Authorization Documents Expiring” case alert. Before this employee starts to work on September 28, 2019, you must reverify his or her employment authorization in Section 3 of Form I-9. Employers should not use E-Verify for reverification.

Note to All Employers

Employers are reminded that the laws requiring proper employment eligibility verification and prohibiting unfair immigration-related employment practices remain in full force. This Federal Register Notice does not supersede or in any way limit applicable employment verification rules and policy guidance, including those rules setting forth reverification requirements. For general questions about the employment eligibility verification process, employers may call USCIS at 888-464-4218 (TTY 877-875-6028) or email USCIS at I-9Central@dhs.gov. Calls and emails are accepted in English and many other languages. For questions about avoiding discrimination during the employment eligibility verification process (Form I-9 and E-Verify), employers may call the U.S. Department of Justice's Civil Rights Division, Immigrant and Employee Rights Section (IER) (formerly the Office of Special Counsel for Immigration-Related Unfair Employment Practices) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email at I-9Central@dhs.gov. Calls are accepted in English, Spanish and many other languages upon request. Employees or applicants may also call the IER Worker Information Hotline at 800-255-7688 (TTY 800-237-2515) for information regarding employment discrimination based upon citizenship, immigration status, or national origin, including discrimination related to Form I-9 and E-Verify. The IER Worker Information Hotline provides language interpretation in numerous languages.

To comply with the law, employers must accept any document or combination of documents from the Lists of Acceptable Documents if the documentation reasonably appears to be genuine and to relate to the employee, or an acceptable List A, List B, or List C receipt described in the Form I-9 Instructions. Employers may not require extra or additional documentation beyond what is required for Form I-9 completion. Further, employers participating in E-Verify who receive an E-Verify case result of “Tentative Nonconfirmation” (TNC) must promptly inform employees of the TNC and give such employees an opportunity to contest the TNC. A TNC case result means that the information entered into E-Verify from Form I-9 differs from Federal or State government records.

Employers may not terminate, suspend, delay training, withhold pay, lower pay, or take any adverse action against an employee based on the employee's decision to contest a TNC or because the case is still pending with E-Verify. A case result of Final Nonconfirmation (FNC) is received when E-Verify cannot confirm an employee's employment eligibility. An employer may terminate employment based on a case result of FNC. Work-authorized employees who receive an FNC may call USCIS for assistance at 888-897-7781 (TTY is at 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS website at http://www.dhs.gov/E-verify.

Note Regarding Federal, State, and Local Government Agencies (Such as Departments of Motor Vehicles)

While Federal Government agencies must follow the guidelines laid out by the Federal Government, State and local government agencies establish their own rules and guidelines when granting certain benefits. Each State may have different laws, requirements, and determinations about what documents you need to provide to prove eligibility for certain benefits. Whether you are applying for a Federal, State, or local government benefit, you may need to provide the government agency with documents that show you are covered by DED and/or show you are authorized to work based on DED. Examples are:

(1) Your current EAD;

(2) Your automatically extended EAD with a copy of this Federal Register Notice, providing an automatic extension of your currently expired or expiring EAD;

(3) A copy of your past Application for Temporary Protected Status Notice of Action (Form I-797), if you received one from USCIS, coupled with a copy of the Presidential Memorandum extending DED for Liberians; and/or

(4) A print-out from the USCIS DED website that provides information on the automatic extension.

Check with the government agency regarding which document(s) the agency will accept. Some benefit-granting agencies use the SAVE program to confirm the current immigration status of applicants for public benefits. While SAVE can verify when an individual has DED, each agency's procedures govern whether they will accept an automatically extended DED-related EAD. You should present the agency with a copy of this Federal Register Notice showing the extension of your DED-related EAD in addition to your recent DED-related EAD with your A-Number. You should explain that SAVE will be able to verify the continuation of your DED using this information. You should ask the agency to initiate a SAVE query with your information and follow through with additional verification steps, if necessary, to get a final SAVE response showing the DED. You can also ask the agency to look for SAVE notices or contact SAVE if they have any questions about your immigration status or automatic extension of your DED-related EAD. In most cases, SAVE provides an automated electronic response to benefit-granting agencies within seconds, but, occasionally, verification can be delayed. You can check the status of your SAVE verification by using CaseCheck at the following link: https://save.uscis.gov/casecheck/, then by clicking the “Check Your Case” button. CaseCheck is a free service that lets you follow the progress of your SAVE verification using your date of birth and one immigration identifier number. If an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request to correct records under the Freedom of Information Act can be found on the SAVE website at http://www.uscis.gov/save.

Travel Authorization and Advance Parole

Individuals covered under DED who would like to travel outside of the United States must apply for and receive advance parole by filing an Application for Travel Document (Form I-131) with required fee before departing from the United States. See 8 CFR 223.2(a). DHS has the discretion to determine whether to grant advance parole and cannot guarantee advance parole in all cases. In addition, possession of an advance parole document does not guarantee that you will be permitted to re-enter the United States, as that is a decision that will be made by an immigration officer at the port of entry upon your return. If you seek advance parole to travel to Liberia or to your country of last habitual residence outside the United States, you will risk being found ineligible to re-enter the United States under DED because the Presidential Memorandum excludes persons “who have voluntarily returned to Liberia or their country of last habitual residence outside the United States.”

L. Francis Cissna,
Director, U.S. Citizenship and Immigration Services.

[FR Doc. 2019-06577 Filed 4-1-19; 4:15 pm]

BILLING CODE 9111-97-P